OFFICE OF PERSONNEL MANAGEMENT

Submission for Review: OPM Form 1203-FX, Occupational Questionnaire, 3206-0040

AGENCY: Office of Personnel Management.

ACTION: 60-day Notice and request for comments.

SUMMARY: The Automated Systems Management Group, Office of Personnel Management (OPM) offers the general public and other federal agencies the opportunity to comment on an existing information collection request (ICR) 3206-0040, Occupational Questionnaire, OPM Form 1203-FX. As required by the Paperwork Reduction Act of 1995, (Pub. L. 104-13, 44 U.S.C. chapter 35) as amended by the Clinger-Cohen Act (Pub. L. 104-106), OPM is soliciting comments for this collection. The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until November 17, 2009. This process is conducted in accordance with 5 CFR 1320.1.

ADDRESSES: Interested persons are invited to submit written comments on this ICR to the Automated Systems Management Group, Office of Personnel Management, 1900 E Street, NW., Washington, DC 20415, Attention: Denise Valentine-Tyson or sent via electronic mail to Denise.Valentine-Tyson@opm.gov.

FOR FURTHER INFORMATION CONTACT: A copy of this ICR, with applicable supporting documentation, may be obtained by contacting the Automated Systems Management Group, Office of Personnel Management, 1900 E Street, NW., Washington, DC 20503, Attention: Denise Valentine-Tyson or sent via electronic mail to Denise.Valentine-Tyson@opm.gov.

SUPPLEMENTARY INFORMATION: The Occupational Questionnaire is an optical scan form designed to collect applicant information and qualifications in a format suitable for automated processing and to create applicant records for an automated examining system. The 1203 series was commonly referred to as the “Qualifications and Availability Form C.” OPM has re-titled the series as “Occupational Questionnaire” to fit a more generic need. OPM uses this form to carry out its responsibility for open competitive examining for admission to the competitive service in accordance with section 3304, of title 5, United States Code.

Analysis

Agency: Automated Systems Management Group, Office of Personnel Management.

Title: Occupational Questionnaire, OPM Form 1203-FX.

OMB Number: 3260-0040.

Frequency: On occasion.

Affected Public: Individuals or households.

Number of Respondents: 3,484,764.

Estimated Time per Respondent: 45 minutes.

Total Burden Hours: 2,613,573.

Total Burden Cost (capital/startup): None.

Total Burden Cost (operating/maintaining): $468,280.

Office of Personnel Management.
John Berry,
Director.

[FR Doc. E9-22566 Filed 9-17-09; 8:45 am]

BILLING CODE 6325-38-P